NATIONAL SCIENCE FOUNDATION

Agency Information Collection Activities: Comment Request; Annual and Final Report Template

AGENCY: National Science Foundation.

ACTION: Notice.

SUMMARY: The National Science Foundation (NSF) is announcing plans to establish this collection. In accordance with the requirements of the Paperwork Reduction Act of 1995, we are providing an opportunity for public comment on this action. After obtaining and considering public comment, NSF will prepare the submission requesting Office of Management and Budget (OMB) clearance of this collection for no longer than 3 years.

DATES: Written comments on this notice must be received by February 28, 2025 to be assured consideration. Comments received after that date will be considered to the extent practicable. Send comments to the address below.

FOR FURTHER INFORMATION CONTACT: Suzanne H. Plimpton, Reports Clearance Officer, National Science Foundation, 2415 Eisenhower Avenue, Room E6447, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Grantee Reporting Requirements for the NSF Accelerating Research through International Network-to-Network Collaboration (AccelNet) Program.

OMB Control No.: 3145-New.

Expiration Date of Approval: Not applicable.

Abstract: We are proposing a modified annual/final report template specific to the Accelerating Research through International Network-to-Network Collaborations program (AccelNet, as described in the following program solicitations: NSF 19-501, NSF 21-511, and NSF 23-619). Briefly, the program funds planning and implementation awards to investigators forming international networks of networks that will work collaboratively to create a research agenda that will advance science in a way not possible with a concerted international cooperative effort. More information on the current solicitation can be found on the program website: https://new.nsf.gov/funding/opportunities/accelerating-research-through-international. While NSF requires awardees to submit annual reports each year of the award and a final report at the end of the award period, the template is focused on research outcomes at the national scale whereas our program is focused on networking activities and workforce development at the international scale. The NSF standard report template does not include prompts that are meaningful to the scope of work awarded and does not provide program directors useful information about achievements and international activities.

Respondents: Awardees.

Estimated Number of Annual Respondents: 70.

Burden on the Public: 8 hours or 1 workday per award.

Dated: December 20, 2024.
Suzanne H. Plimpton,
Reports Clearance Officer, National Science Foundation.

[FR Doc. 2024-31241 Filed 12-27-24; 8:45 am]

BILLING CODE 7555-01-P